DEPARTMENT OF TRANSPORTATION

Federal Aviation Administration

14 CFR Part 39

[Docket No. 95-NM-215-AD]

RIN 2120-AA64

Airworthiness Directives; The Boeing Company Model 737-100 and -200 Series Airplanes

AGENCY: Federal Aviation Administration, DOT.

ACTION: Proposed rule; withdrawal.

SUMMARY: This action withdraws a supplemental notice of proposed rulemaking (NPRM) that proposed a new airworthiness directive (AD), applicable to certain Model 737-100 and -200 series airplanes. That action would have superseded an existing AD that requires various inspections for cracks in the outboard chord of the frame at body station (BS) 727 and in the outboard chord of stringer 18A; and repair or replacement of cracked parts. That action also would have added inspections for certain airplanes, revised certain compliance times for all airplanes, and added airplanes to the applicability. Since the issuance of the supplemental NPRM, the Federal Aviation Administration (FAA) has received revised service information that will significantly change the requirements proposed by the supplemental NPRM. Accordingly, the proposed rule is withdrawn.

FOR FURTHER INFORMATION CONTACT: Alan Pohl, Aerospace Engineer, Airframe Branch, ANM-120S, FAA, Seattle Aircraft Certification Office, 1601 Lind Avenue, SW., Renton, Washington 98057-3356; telephone (425) 917-6450; fax (425) 917-6590.

SUPPLEMENTARY INFORMATION: A proposal to amend part 39 of the Federal Aviation Regulations (14 CFR part 39) to add an airworthiness directive (AD), applicable to certain Model 737-100 and -200 series airplanes, was published in the Federal Register as a supplemental Notice of Proposed Rulemaking (NPRM) on July 10, 2001 (66 FR 35912). That supplemental NPRM proposed to supersede AD 95-12-17, Amendment 39-9268 (60 FR 36981, July 24, 1995). That supplemental NPRM would have continued to require various inspections for cracks in the outboard chord of the frame at body station (BS) 727 and in the outboard chord of stringer 18A; and repair or replacement of cracked parts. That supplemental NPRM also would have added inspections for certain airplanes, revised certain compliance times for all airplanes, and added airplanes to the applicability. That supplemental NPRM was prompted by reports of fatigue cracks in those outboard chords. The proposed actions were intended to detect and correct fatigue cracking, which could result in reduced structural integrity of the outboard chords, and consequent rapid decompression of the airplane.

Actions That Occurred Since the Supplemental NPRM Was Issued

Since the issuance of that supplemental NPRM, The Boeing Company has issued revised service information that is significantly changed from the service information referenced in the supplemental NPRM. As a result, substantial changes to the requirements proposed in the supplemental NPRM are necessary.

FAA's Conclusions

The FAA has determined that the best course of action is to withdraw the supplemental NPRM and issue a new NPRM with revised requirements referencing the updated service information. Accordingly, the proposed rule is hereby withdrawn.

Withdrawal of this supplemental NPRM constitutes only such action, and does not preclude the agency from issuing another action in the future, nor does it commit the agency to any course of action in the future.

Regulatory Impact

Since this action only withdraws a supplemental NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the supplemental NPRM, Docket No. 95-NM-215-AD, published in the Federal Register on July 10, 2001 (66 FR 35912), is withdrawn.

Issued in Renton, Washington, on May 4, 2010.
Ali Bahrami,
Manager, Transport Airplane Directorate, Aircraft Certification Service.

[FR Doc. 2010-11179 Filed 5-10-10; 8:45 am]

BILLING CODE 4910-13-P